DEPARTMENT OF THE INTERIOR

Bureau of Land Management

[BLM_NV_FRN; MO# 04500179291]

Notice of Availability of the Record of Decision for Libra Solar in Lyon and Mineral Counties, NV

AGENCY: Bureau of Land Management, Interior.

ACTION: Notice of availability.

SUMMARY: The Bureau of Land Management (BLM) announces the availability of the Record of Decision (ROD) for the Final Environmental Impact Statement for the Libra Solar Project located in Lyon and Mineral Counties, Nevada. The ROD was signed on September 10, 2024, which constitutes the decision of the BLM, as approved by the Department of the Interior.

DATES: The ROD was signed on September 10, 2024.

ADDRESSES: The ROD is available online at https://eplanning.blm.gov/eplanning-ui/project/2022592/510. Printed copies of the ROD are available for the public at the Carson City District Office, 5665 Morgan Mill Road, Carson City, Nevada or can be provided upon request by Carson City District Public Room at: 775-885-6000.

FOR FURTHER INFORMATION CONTACT: Lisa Ross, Public Affairs Specialist, telephone (775) 885-6107; address 5665 Morgan Mill Road, Carson City, NV 89701; email blm_nv_ccdo_libra_solar@blm.gov. Individuals in the United States who are deaf, deafblind, hard of hearing, or have a speech disability may dial 711 (TTY, TDD, or TeleBraille) to access telecommunications relay services for contacting Ms. Ross Individuals outside the United States should use the relay services offered within their country to make international calls to the point-of-contact in the United States.

SUPPLEMENTARY INFORMATION: The Department of the Interior has approved the BLM's decision to issue a right-of-way grant for construction, operation and maintenance (O&M), and decommissioning of a 5,141-acre solar facility wholly on BLM lands with a 24.1-mile-long gen-tie line to connect to the existing Fort Churchill substation near the town of Yerington in Lyon County, Nevada. The Project includes the following primary components: (1) a 700 megawatt (MW) alternating current (MWac) solar photovoltaic power generating facility; (2) a 700 MW battery energy storage system; (3) linear and ancillary facilities, including access roads, electrical distribution lines, and communication cables; (4) O&M facilities; and (5) a substation and a 24.1-mile-long 345 kilovolt (kV) or 525 kV gen-tie line into the Fort Churchill substation, of which 22.9 miles would be on the BLM-managed lands. The project and planning area is approximately 55 miles southeast of the Reno metropolitan area, 11 miles southeast of the town of Yerington, 7 miles west of U.S. Route 95, and 8 miles east of State Route 208.

The decision to authorize this energy generation project on public lands is consistent with the Federal Land Policy and Management Act, as amended, and the BLM's right-of-way regulations (43 U.S.C. 1761; 43 CFR part 2800).

Approval of this right-of-way constitutes the final decision of the Department of the Interior and is not subject to appeal under Departmental regulations at 43 CFR part 4.

(Authority: 40 CFR 1501.9)

Kimberly D. Dow,
District Manager, Carson City District.

[FR Doc. 2024-20948 Filed 9-13-24; 8:45 am]

BILLING CODE 4331-21-P